DEPARTMENT OF HEALTH AND HUMAN SERVICES

Food and Drug Administration

[Docket No. FDA-2005-N-0464 (Formerly Docket No. 2005N-0403)]

Agency Information Collection Activities; Announcement of Office of Management and Budget Approval; Establishment Registration of Producers of Drugs and Listing of Drugs in Commercial Distribution and Blood Establishment Registration and Product Listing

AGENCY: Food and Drug Administration, HHS.

ACTION: Notice.

SUMMARY: The Food and Drug Administration (FDA) is announcing that two collections of information: “Establishment Registration of Producers of Drugs and Listing of Drugs in Commercial Distribution” and “Blood Establishment Registration and Product Listing” have been approved by the Office of Management and Budget (OMB) under the Paperwork Reduction Act of 1995.

FOR FURTHER INFORMATION CONTACT: JonnaLynn Capezzuto, Office of Operations, Food and Drug Administration, Three White Flint North 10A-12M, 11601 Landsdown St., North Bethesda, MD 20852, 301-796-3794.

SUPPLEMENTARY INFORMATION: On December 16, 2016, the Agency submitted proposed collections of information entitled “Establishment Registration of Producers of Drugs and Listing of Drugs in Commercial Distribution” and “Blood Establishment Registration and Product Listing” to OMB for review and clearance under 44 U.S.C. 3507. An Agency may not conduct or sponsor, and a person is not required to respond to, a collection of information unless it displays a currently valid OMB control number. OMB has now approved the information collection and has assigned OMB control numbers 0910-0045 and 0910-0052, respectively. The information collection 0910-0045 expires on December 31, 2018, and the information collection 0910-0052 expires May 31, 2018. Copies of the supporting statements for the information collections are available on the Internet at http://www.reginfo.gov/public/do/PRAMain.

Dated: April 18, 2017.
Anna K. Abram,
Deputy Commissioner for Policy, Planning, Legislation, and Analysis.

[FR Doc. 2017-08305 Filed 4-24-17; 8:45 am]

BILLING CODE 4164-01-P